SMALL BUSINESS ADMINISTRATION

Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 5.125 (5⅛) percent for the October-December quarter of FY 2007.

Janet A. Tasker,
Acting Associate Administrator for Financial Assistance.

[FR Doc. E6-17445 Filed 10-18-06; 8:45 am]

BILLING CODE 8025-01-P